DEPARTMENT OF STATE

[Public Notice 8561]

In the Matter of the Designation of Al-Mulathamun Battalion, Also Known as al-Mulathamun Brigade, Also Known as al-Muwaqqi'un bil-Dima, Also Known as Those Signed in Blood Battalion, Also Known as Signatories in Blood, Also Known as Those Who Sign in Blood, Also Known as Witnesses in Blood, Also Known as Signed-in-Blood Battalion, Also Known as Masked Men Brigade, Also Known as Khaled Abu al-Abbas Brigade, Also Known as al-Mulathamun Masked Ones Brigade, Also Known as al-Murabitoun, Also Known as The Sentinels, as a Foreign Terrorist Organization pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to the al-Mulathamun Battalion, also known as al-Mulathamun Brigade, also known as al-Muwaqqi'un bil-Dima, also known as Those Signed in Blood Battalion, also known as Signatories in Blood, also known as Those who Sign in Blood, also known as Witnesses in Blood, also known as Signed-in-Blood Battalion, also known as Masked Men Brigade, also known as Khaled Abu al-Abbas Brigade, also known as al-Mulathamun Masked Ones Brigade, also known as al-Murabitoun, also known as The Sentinels.

Therefore, I hereby designate the aforementioned organization and its aliases as a Foreign Terrorist Organization pursuant to section 219 of the INA.

This determination shall be published in the Federal Register.

Dated: December 6, 2013.
John F. Kerry,
Secretary of State.

[FR Doc. 2013-30254 Filed 12-18-13; 8:45 am]

BILLING CODE 4710-02-P